SMALL BUSINESS ADMINISTRATION

[Disaster Declaration #15100 and #15101]

California Disaster Number CA-00267

AGENCY: U.S. Small Business Administration.

ACTION: Amendment 1.

SUMMARY: This is an amendment of the Presidential declaration of a major disaster for Public Assistance Only for the State of CALIFORNIA (FEMA-4308-DR), dated 04/01/2017.

Incident: Severe Winter Storms, Flooding, and Mudslides.

Incident Period: 02/01/2017 through 02/23/2017.

Effective Date: 05/18/2017.

Physical Loan Application Deadline Date: 05/31/2017.

Economic Injury (EIDL) Loan Application Deadline Date: 01/02/2018.

ADDRESSES: Submit completed loan applications to: U.S. Small Business Administration, Processing And Disbursement Center, 14925 Kingsport Road, Fort Worth, TX 76155.

FOR FURTHER INFORMATION CONTACT: A. Escobar, Office of Disaster Assistance, U.S. Small Business Administration, 409 3rd Street SW., Suite 6050, Washington, DC 20416, (202) 205-6734.

SUPPLEMENTARY INFORMATION: The notice of the President's major disaster declaration for Private Non-Profit organizations in the State of CALIFORNIA, dated 04/01/2017, is hereby amended to include the following areas as adversely affected by the disaster.

Primary Counties/Areas: Mono County and the Tule River Tribe located within Tulare County.

All other information in the original declaration remains unchanged.

(Catalog of Federal Domestic Assistance Number 59008)

Rafaela Monchek,
Acting Associate Administrator for Disaster Assistance.

[FR Doc. 2017-10699 Filed 5-24-17; 8:45 am]

BILLING CODE 8025-01-P